DEPARTMENT OF DEFENSE

Office of the Inspector General; Privacy Act of 1974; System of Records

AGENCY: Office of the Inspector General.

ACTION: Notice to amend systems of records.

SUMMARY: The Office of the Inspector General, DoD, is amending a system of records notice in its existing inventory of record systems subject to the Privacy Act of 1974, (5 U.S.C. 552a), as amended.

DATES: This proposed action will be effective without further notice on June 5, 2003 unless comments are received which result in a contrary determination.

ADDRESSES: Send comments to Office of the Inspector General, Department of Defense, 400 Army Navy Drive, Room 201, Arlington, VA 22202-4704.

FOR FURTHER INFORMATION CONTACT: Mr. Joseph E. Caucci at (703) 604-9786.

SUPPLEMENTARY INFORMATION: The Office of the Inspector General, DoD, systems of records notices subject to the Privacy Act of 1974, (5 U.S.C. 552a), as amended, have been published in the Federal Register and are available from the address above.

The specific amendments to the records system being amended are set forth below followed by the notice, as amended, published in its entirety. The proposed amendments are not within the purview of subsection (r) of the Privacy Act of 1974, (5 U.S.C. 552a), as amended, which requires the submission of a new or altered system report.

Dated: May 2, 2003.
Patricia L. Toppings,
Alternate OSD Federal Register Liaison Officer, Department of Defense.

CIG-16

System name:

DoD Hotline Program Case Files (February 22, 1993, 58 FR 10213).

Changes:

* * * * *

Storage:

Delete entry and replace with ‘Paper records are stored in file folders and automated records are maintained on a computerized database.’

* * * * *

Retention and disposal:

Hotline case files not referred are destroyed after 2 years.

Electronic copies created on electronic mail and word processing systems are deleted after a record keeping copy has been produced.

Automated and paper records are retained within the Office of the Defense Hotline Division for a period of 5 years after closure. The records are then retired to the Washington National Records Center for an additional 5 years, and then destroyed.

* * * * *

CIG-16

System name:

DoD Hotline Program Case Files.

System location:

DoD Hotline Division, Office of the Assistant Inspector General for Inspections and Policy of the Office of the Inspector General of the Department of Defense, 400 Army Navy Drive, Arlington, VA 22202-4704.

Categories of individuals covered in the system:

Individuals filing hotline complaints; individuals alleged to have been involved in criminal or administrative misconduct, including, but not limited to, fraud, waste, or mismanagement; or individuals identified as having been adversely affected by matters being investigated by the Office of the Inspector General.

Categories of records in the system:

Records resulting from the referral of, and inquiry into, hotline complaints, such as the date of the complaint; the hotline control number; the name of the complainant; the actual allegations; referral documents to DoD components requesting investigation into DoD Hotline complaints; referral documents from DoD components transmitting the DoD Hotline Completion Report, which normally contains the name of the examining official(s) assigned to the case; background information regarding the investigation itself, such as the scope of the investigation, relevant facts discovered, information received from witnesses, and specific source documents reviewed; the investigator’s findings, conclusions, and recommendations; and the disposition of the case; and internal DoD Hotline forms documenting review and analysis of DoD Hotline Completion Reports received from DoD components.

Authority for maintenance of the system:

Inspector General Act of 1978 (Pub. L. 95-452), as amended; DoD Directive 5106.1, Inspector General of the Department of Defense (IG, DoD) (32 CFR part 373); DoD Directive 7050.1, Defense Hotline Program (32 CFR part 98).

Purpose(s):

To record information related to official hotline investigations.

To compile statistical information to disseminate to other components within the Department of Defense engaged in the Hotline Program.

To provide prompt, responsive, and accurate information regarding the status of ongoing cases.

To provide a record of complaint disposition. Hotline complaints appearing to involve criminal wrongdoing will be referred to the Defense Criminal Investigative Service or other criminal investigative units of DoD components.

Routine uses of records maintained in the system including categories of users, and purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the OIG's compilation of systems of records notices also apply to this system.

Policies and practices for storing, retrieving, accessing, retaining, and disposing of records in the system:

Storage:

Paper records are stored in file folders and automated records are maintained on a computerized database.

Retrievability:

By Hotline case number, by subject matter, by the names of complainant(s), by subject(s) of the complaint, and by individual(s) alleged to have been adversely affected by matters being investigated by the OIG.

Safeguards:

Access is limited to DoD Hotline staff. Paper and automated records are stored in rooms protected by cipher lock. The automated system is password protected, and regular back-ups of data are performed.

Retention and disposal:

Automated and paper records are retained within the DoD Hotline Program office for a period of five years following completion of final action. Thereafter, physical files are stored with the Federal Records Center, and automated data are archived within the DoD Hotline automated system for statistical purposes. Physical files and automated data are destroyed 15 years after the physical files are retired to the Federal Records Center.

Retention and disposal:

Hotline case files not referred are destroyed after 2 years.

Electronic copies created on electronic mail and word processing systems are deleted after a record keeping copy has been produced.

Automated and paper records are retained within the Office of the Defense Hotline Division for a period of 5 years after closure. The records are then retired to the Washington National Records Center for an additional 5 years, and then destroyed.

System manager(s) and address:

Director, DoD Hotline Division, Office of the Assistant Inspector General for Inspections and Policy of the Office of the Inspector General of the Department of Defense, 400 Army Navy Drive, Arlington, VA 22202-4704.

Notification procedure:

Individuals seeking to determine whether this system of records contains information about themselves should address written inquiries to the Chief, Freedom of Information Act/Privacy Act Office, 400 Army Navy Drive, Arlington, VA 22202-4704.

The request should contain the individual's full name, address, and Social Security Number. Requests submitted on behalf of other persons must include their written authorization. Provision of the Social Security Number is voluntary and it will be used solely for identification purposes. Failure to provide the Social Security Number will not affect the individual's rights.

Record access procedures:

Individuals seeking access to records about themselves contained in this system should address written inquiries to the Chief, Freedom of Information Act/Privacy Act Office, 400 Army Navy Drive, Arlington, VA 22202-4704.

The request should contain the individual's full name, address, and Social Security Number. Requests submitted on behalf of other persons must include their written authorization. Provision of the Social Security Number is voluntary and it will be used solely for identification purposes. Failure to provide the Social Security Number will not affect the individual's rights.

Contesting record procedures:

The OIG's rules for accessing records and for contesting contents and appealing initial agency determinations are published in 32 CFR part 312 or may be obtained from the system manager.

Record source categories:

Sources, subjects, witnesses, all levels of Government, private businesses, and nonprofit organizations.

Exemptions claimed for the system:

Investigatory material compiled for law enforcement purposes, other than material within the scope of subsection 5 U.S.C. 552a(j)(2), may be exempt pursuant to 5 U.S.C. 552a(k)(2). However, if an individual is denied any right, privilege, or benefit for which he would otherwise be entitled by Federal law or for which he would otherwise be eligible, as a result of the maintenance of the information, the individual will be provided access to the information exempt to the extent that disclosure would reveal the identiy of a confidential source.

Note: When claimed, this exemption allows limited protection of investigative reports maintained in a system of records used in personnel or administrative actions.

Investigatory material compiled solely for the purpose of determining suitability, eligibility, or qualifications for federal civilian employment, military service, federal contracts, or access to classified information may be exempt pursuant to 5 U.S.C. 552a(k)(5), but only to the extent that such material would reveal the identity of a confidential source.

An exemption rule for this record system has been promulgated in accordance with the requirements of 5 U.S.C. 553(b)(1), (2), and (3), (c) and (e) and published in 32 CFR part 312. For additional information contact the system manager.

[FR Doc. 03-11579 Filed 5-8-03; 8:45 am]

BILLING CODE 5001-08-P